DEPARTMENT OF THE INTERIOR

National Park Service

National Preservation Technology and Training Board: Meeting

AGENCY: National Park Service, Interior.

ACTION: Notice.

SUMMARY: In accordance with the National Historic Preservation Act of 1966, as amended (16 U.S.C. 470) and the Federal Advisory Committee Act (FACA), 5 U.S.C. Appendix (1988), the Preservation Technology and Training Board will meet October 18, 2004, in the 3rd floor Conference Room of the Main Building at Ellis Island National Monument, New York, NY. The public can access the Island via the Circle Line Ferry, departing from Battery Park in Manhattan, NY, or Liberty State Park, NJ. Those wishing to be present for the beginning of the meeting should plan to take the 8:30 a.m. ferry from either location. Ferry schedules can be confirmed online prior to the meeting at www.circleline.com. Notification of this meeting may appear in the Federal Register less than 15 calendar days prior to the meeting date due to difficulties in arranging the meeting venue.

DATES: The meeting at Ellis Island National Monument, New York, NY, is scheduled for October 18, 2004. The meeting will begin at 9:15 a.m. and end no later than 5:15 p.m.

FOR FURTHER INFORMATION CONTACT:

Persons wishing more information concerning the meeting, or who wish to submit written statements, may contact Mr. de Teel Patterson Tiller, Deputy Associate Director, Cultural Resources, National Park Service, 1849 C Street NW-3128 MIB, Washington, DC 20240, telephone (202) 208-7625. Increased security in the Washington, DC, area may cause delays in the delivery of U.S. Mail to government offices. In addition to mail or commercial delivery, please fax a copy of the written submission to Mr. Tiller at (202) 273-3237.

SUPPLEMENTARY INFORMATION: The Board was established by Congress to provide leadership, policy advice, and professional oversight to the National Center for Preservation Technology and Training (NCPTT), as required under the National Historic Preservation Act of 1966, as amended (16 U.S.C. 470).

The Board meeting's agenda will include NCPTT operations, budget, and program development; NCPTT business and strategic plans; Preservation Technology and Training grants; the Heritage Education program; and PTT Board workgroup reports.

The Board meeting is open to the public. Facilities and space for accommodating members of the public are limited, however, and persons will be accommodated on a first-come, first-served basis. Any member of the public may file a written statement concerning the matters to be discussed.

Minutes of the meeting will be available for public inspection no later than 90 days after the meeting at the office of the Deputy Associate Director, Cultural Resources, National Park Service, 1849 C Street NW-3128 MIB, Washington, DC 20240, telephone (202) 208-7625.

Dated: September 16, 2004
de Teel Patterson Tiller,
Deputy Associate Director, Cultural Resources.

[FR Doc. 04-22571 Filed 10-6-04; 8:45 am]

BILLING CODE 4312-50-S